DEPARTMENT OF HOMELAND SECURITY

Coast Guard

33 CFR Part 100

[Docket No. USCG-2012-0925]

Special Local Regulation; Annual Marine Events on the Colorado River, Between Davis Dam (Bullhead City, AZ) and Headgate Dam (Parker, AZ) Within the San Diego Captain of the Port Zone

AGENCY: Coast Guard, DHS.

ACTION: Notice of enforcement of regulation.

SUMMARY: The Coast Guard will enforce special local regulations during the Blue Water Resort and Casino Thanksgiving Regatta, on the waters of Lake Moovalya, Parker, Arizona, from November 23 through November 24, 2012. These special local regulations are necessary to provide for the safety of the participants, crew, spectators, sponsor vessels of the race, and general users of the waterway. During the enforcement period, persons and vessels are prohibited from entering into, transiting through, or anchoring within this safety zone unless authorized by the Captain of the Port, or his designated representative.

DATES: The regulations in 33 CFR 100.1102 will be enforced on November 23 through November 24, 2012 from 6:30 a.m. until 6:00 p.m. each day. If the event is delayed by inclement weather, these regulations will also be enforced on November 25, 2012, from 6:30 a.m. to 6:00 p.m.

FOR FURTHER INFORMATION CONTACT: If you have questions on this notice, call or email Petty Officer Deborah Metzger, Waterways Management, U.S. Coast Guard Sector San Diego, CA; telephone (619) 278-7656, email D11-PF-MarineEventsSanDiego@uscg.mil.

SUPPLEMENTARY INFORMATION: The Coast Guard will enforce the special local regulations in 33 CFR 100.1102 in support of the annual Blue Water Resort and Casino Thanksgiving Regatta (Item 9 on Table 1 of 33 CFR 100.1102). The Coast Guard will enforce the special local regulations in that portion of Lake Moovalya, Parker, AZ between the northern and southern boundaries of La Paz County Park on November 23 through November 24, 2012 from 6:30 a.m. to 6:00 p.m. each day. If the event is delayed by inclement weather, these regulations will also be enforced on November 25, 2012, from 6:30 a.m. to 6:00 p.m. The Blue Water Resort and Casino Thanksgiving Regatta will set up the course on November 22 and race on November 23 through November 24, 2012. Groups will be broken up into different classes and compete in designated heats. There will be 40 heats per day.

Under the provisions of 33 CFR 100.1102, persons and vessels are prohibited from entering into, transiting through, or anchoring within this safety zone unless authorized by the Captain of the Port, or his designated representative. The Coast Guard may be assisted by other Federal, State, or local law enforcement agencies in enforcing this regulation.

This notice is issued under authority of 33 CFR 100.1102 and 5 U.S.C. 552(a). In addition to this notice in the Federal Register, the Coast Guard will provide the maritime community with extensive advance notification of this enforcement period via the Local Notice to Mariners, state, or local agencies.

Dated: October 18, 2012.
S.M. Mahoney,
Acting, Captain of the Port San Diego, United States Coast Guard.

[FR Doc. 2012-27537 Filed 11-9-12; 8:45 am]

BILLING CODE 9110-04-P